DEPARTMENT OF TRANSPORTATION

Federal Railroad Administration

[Docket Number FRA-2012-0023]

Petition for Waiver of Compliance

In accordance with Part 211 of Title 49 Code of Federal Regulations (CFR), this document provides the public notice that by a document dated January 25, 2012, Union Pacific Railroad (UP) has petitioned the Federal Railroad Administration (FRA) for a permanent waiver of compliance from certain provisions of the Locomotive Safety Standards, found at 49 CFR 229.129(b) and (c), and which pertain to railroad locomotive horn testing. FRA assigned the petition Docket Number FRA-2012-0023.

UP seeks to use an automated sound measurement system (ASMS) to test locomotive horns as required in 49 CFR 229.129(b). The ASMS uses a Class 1 sound-level measuring instrument that is permanently mounted in a fixed test site and uses the same technology that is used to measure noise at airports nationwide. Due to the proven accuracy and reliability of the ASMS and the tight procedural control and concise documentation they provide (plus the fact that the frequency and duration of horn blasts and the resulting impact on the surrounding community and personnel is reduced), UP strongly believes that the ASMS is an improvement from the current testing scheme permitted under 49 CFR 229.129.

In addition, UP requests a waiver to extend the duration between acoustic calibrations (49 CFR 229.129(c)(9)) from immediately before and after each session of compliance tests, or no later than 8 hours, as clarified in 71 FR 47626, to a period of no more than 6 months.

UP also requests FRA approval of all locomotive horn test data acquired by any of UP's ASMS that meet the requirements of SAE ARP-4 721, and have been calibrated in accordance with this waiver.

A copy of the petition, as well as any written communications concerning the petition, is available for review online at http://www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2012-0023) and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by May 14, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on March 26, 2012.
Ron Hynes,
Acting Deputy Associate Administrator for Regulatory and Legislative Operations.

[FR Doc. 2012-7614 Filed 3-29-12; 8:45 am]

BILLING CODE 4910-06-P